NATIONAL AERONAUTICS AND SPACE ADMINISTRATION

4th Digital Earth Community Meeting

AGENCY: National Aeronautics and Space Administration.

ACTION: Notice of meeting.

SUMMARY: The 4th Digital Earth Community Meeting will bring together federal, state, and local government organizations, private industry, academia, and others to work together to share data, time, and knowledge. The purpose of the meeting is to enable and facilitate the evolution of Digital Earth, a digital representation of the planet that will allow people to explore and interact with vast amounts of natural and cultural information. To accomplish this, it is important to access all Earth referenced data and resources to enhance our understanding of the physical, ecological, and social dimensions of the Earth. The data, infrastructure, and capabilities supporting a Digital Earth are found throughout the public and private sectors.

DATES: The meeting will be held on Tuesday, September 19, 2000, from 8 a.m. to 5 p.m. Group demonstrations will be held from 5 p.m. to 8 p.m.

ADDRESSES: The meeting will be held in the National Geographic Society Auditorium, 1145 17th Street NW., Washington, DC.

FOR FURTHER INFORMATION CONTACT: To reserve a space for the meeting, please contact Amy Frederick at (301) 286-4058 or via email at afrederi@pop700.gsfc.nasa.gov with your name, address, telephone number, and email address. Although the meeting is open to all interested parties, space is limited and will be allocated on a first come basis. The deadline for registration is Tuesday, September 12, 2000.

SUPPLEMENTARY INFORMATION: Format: The morning sessions will focus on providing status of the National Digital Earth Initiative, organizational committee, Digital Earth 2001 Conference, and collaborative efforts with other programs. The afternoon sessions will be devoted to discussions on the Digital Earth Alpha Versions, interoperability, presentations, and demonstrations. Presentations will be held from 3:45 p.m. to 5 p.m. and should be limited to 10 minutes. There will be a room available for one-on-one demonstrations throughout the day, and group demonstrations will be held from 5 p.m. to 8 p.m. Although the meeting is open to all interested parties, time availability for presentations and demonstrations is limited and will be allocated on a first come basis. All interested parties must contact Amy Frederick by September 12, 2000.

Additional Information: Additional details on the Community Meeting will be posted to www.digitalearth.gov in the near future.

Dated: August 31, 2000.
Thomas S. Taylor,
Program Manager.

[FR Doc. 00-22905 Filed 9-6-00; 8:45 am]

BILLING CODE 7510-01-M